DEPARTMENT OF AGRICULTURE

Grain Inspection, Packers and Stockyards Administration

Implementation of Farm Bill Amendments to the Packers and Stockyards; Notice of Town Hall Meetings

AGENCY: Grain Inspection, Packers and Stockyards Administration, USDA.

ACTION: Notice of Town Hall Meeting.

SUMMARY: This notice announces three Town Hall meetings to allow interested parties to provide advice and recommendations to the Department of Agriculture's Grain Inspection, Packers and Stockyards Administration (GISPA) regarding the regulations that Title XI of the Food, Conservation and Energy Act of 2008 (Farm Bill) requires GIPSA to promulgate.

DATES: GIPSA will hold a town hall meeting in three locations:

1. October 14, 2008, 6 p.m. to 8 p.m., Van Buren, Arkansas.

2. October 16, 2008, 6 p.m. to 8 p.m., Ames, Iowa.

3. October 22, 2008, 6 p.m. to 8 p.m., Gainesville, Georgia.

ADDRESSES: The public meetings will be held in three locations: Arkansas, Georgia, and Iowa.

1. Arkansas—Crawford County Cooperative Extension Office, 105 Pointer Trail West Van Buren, AR 72956.

2. Iowa—Iowa State University Scheman Building, Room 275, 1810 Lincoln Way, Ames, IA 50010.

3. Georgia—Hall County FSA Building, 734 East Crescent Dr., Gainesville, GA 30501.

FOR FURTHER INFORMATION CONTACT: Jeana Harbison, Legal Specialist, Policy and Litigation Division-GIPSA, United States Department of Agriculture, 1400 Independence Ave, SW., Washington, DC 20250-3646. Requests for information can be made by e-mail sent to: Jeana.M.Harbison@usda.gov; by phone at (202) 720-7363; or fax at (202) 690-3207.

SUPPLEMENTARY INFORMATION: The Grain Inspection, Packers and Stockyards Administration (GIPSA) enforces the Packers and Stockyards Act of 1921 (P&S Act). Under authority granted the Secretary of Agriculture and delegated to us, we are authorized (7 U.S.C. 228) to make those regulations necessary to carry out the provisions of the P&S Act.

The Food, Conservation and Energy Act of 2008 (Farm Bill) tasked GIPSA with the responsibility of promulgating regulations with respect to the Packers and Stockyards Act, 1921 (P&S Act) (7 U.S.C. 181 et seq.) to establish criteria to be considered in determining:

1. Whether an undue or unreasonable preference or advantage has occurred in violation of such Act;

2. Whether a live poultry dealer has provided reasonable notice to poultry growers of any suspension of the delivery of birds under a poultry growing arrangement;

3. When a requirement of additional capital investments over the life of a poultry growing arrangement or swine production contract constitutes a violation of such Act; and,

4. If a live poultry dealer or swine contractor has provided a reasonable period of time for a poultry grower or a swine production contract grower to remedy a breach of contract that could lead to termination of the poultry growing arrangement or swine production contract.

The Farm Bill also requires that regulations be promulgated to implement new Section 210 of the P&S Act regarding the use of arbitration in production contract disputes. This specifically involves:

1. The right to decline arbitration when entering into a contract;

2. Disclosure of the right to decline arbitration; and

3. Choice of arbitration once a dispute arises if both parties agree in writing.

We must also establish the criteria that the Secretary will consider in determining whether the arbitration process provided in a production contract provides a meaningful opportunity for the grower or producer to participate fully in the arbitration process.

Purpose: The purpose of these meetings is to gather information and recommendations from interested individuals and organizations regarding the promulgation of regulations concerning livestock and poultry production contracts, including swine production contracts and poultry growing arrangements as required by the Farm Bill. We wish to discuss and address existing problems, possible obstacles and potential solutions that would help us in the development of the regulations. Comments and suggestions received at this meeting may be used by GIPSA to draft the required regulations.

Public Participation: While oral comments should be limited to five minutes, extended written comments may be submitted for the record. Members of the public may also submit written comments for distribution at a meeting without presenting oral comments. Such written comments should be sent by mail or fax machine to Jeana Harbison as above no later than October 10, 2008.

Telephone Participation: Those unable to attend a public meeting may participate via an audio bridge by calling (877) 950-5739, participant pass code “6969173#.” All callers using the above pass code will be placed initially in “listen-only” mode during the presentation. Following the presentation, callers using the audio bridge will be given an opportunity to participate in the “Question and Answer” portion of the meeting or they may e-mail questions or comments during the meeting to Jeana.M.Harbison@usda.gov.

Instructions: If the comments and information may be used in promulgating regulations, they will become a matter of public record. Extended written comments should make reference to the date and page number of this issue of the Federal Register and be identified as “P&SA Town Hall Meeting Comments.” Written comments and transcripts of oral comments will be available for public inspection at the above address during regular business hours (7 CFR 1.27(b)). Please call the GIPSA Management Support Staff at (202) 720-7486 to arrange for a public inspection of comments.

Special Accomodations: Persons attending a meeting who require special assistance or accommodations, are asked to notify Jeana Harbison by e-mail at Jeana.M.Harbison@usda.gov; by phone at (202) 720-7363; or fax at (202) 690-3207, by October 9, 2008 by 5 p.m. EST.

James E. Link,
Administrator, Grain Inspection, Packers and Stockyards Administration.

[FR Doc. E8-23413 Filed 10-2-08; 8:45 am]

BILLING CODE 3410-KD-P